FEDERAL COMMUNICATIONS COMMISSION

47 CFR Part 73

[DA 03-105; MB Docket No. 03-105; RM-10671]

Radio Broadcasting Services; Glens Falls, Indian Lake, Malta and Queensbury, NY

AGENCY: Federal Communications Commission.

ACTION: Final rule.

SUMMARY: This document substitutes Channel 289A for Channel 289B1 at Queensbury, New York, reallots Channel 289A to Malta, New York, and modifies the license for Station WNYQ; reallots Channel 240A from Glens Falls, New York, to Queensbury, New York, and modifies the license for Station WCQL; and allots Channel 290A at Indian Lake, New York, in response to a petition filed by Vox New York, LLC and Entertronics, Inc. See 68 FR 28186, May 23, 2003. The coordinates for Channel 289A at Malta are 42-58-58 and 73-48-00. The coordinates for Channel 240A at Queensbury are 43-24-12 and 73-40-25. The coordinates for Channel 290A at Indian Lake are 43-46-57 and 74-16-20. Canadian concurrence has been requested for the allotments at Indian Lake, Malta, and Queensbury, New York. A filing window for Channel 290A at Indian Lake will not be opened at this time. Instead, the issue of opening this allotment for auction will be addressed by the Commission in a subsequent Order. With this action, this proceeding is terminated.

DATES: Effective September 8, 2003.

FOR FURTHER INFORMATION CONTACT: Kathleen Scheuerle, Media Bureau, (202) 418-2180.

SUPPLEMENTARY INFORMATION: This is a summary of the Commission's Report and Order, MB Docket No. 03-105, adopted July 23, 2003, and released July 24, 2003. The full text of this Commission decision is available for inspection and copying during regular business hours in the FCC's Reference Information Center, Portals II, 445 12th Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under New York, is amended by removing Glens Falls, Channel 240A, by adding Indian Lake, Channel 290A, by adding Malta, Channel 289A and by removing Channel 289B1 and adding Channel 240A at Queensbury.

Federal Communications Commission.
John A. Karousos,
Assistant Chief, Audio Division, Media Bureau.

[FR Doc. 03-20208 Filed 8-7-03; 8:45 am]

BILLING CODE 6712-01-P